DEPARTMENT OF STATE

[Public Notice: 9514]

Notice of Information Collection Under OMB Emergency Review: Adoptive Family Relief Act Refund Application

ACTION: Notice of request for emergency OMB approval and public comment.

SUMMARY: The Department of State has submitted the information collection request described below to the Office of Management and Budget (OMB) for review and approval in accordance with the emergency review procedures of the Paperwork Reduction Act of 1995 (5 CFR 1320.13). The purpose of this notice is to allow for public comment from all interested individuals and organizations. Emergency review and approval of this collection has been requested from OMB by April 29, 2016. If granted, the emergency approval is only valid for 180 days. The Department plans to follow this emergency request with a submission for a 3 year approval through OMB's normal PRA clearance process (5 CFR 1320.10).

ADDRESSES: Direct any comments on this emergency request to both the Department of State Desk Officer in the Office of Information and Regulatory Affairs at the Office of Management and Budget (OMB) and to the Legislation and Regulation Division in the Department of State's Visa Office.

All public comments must be received by April 25, 2016. You may submit comments to OMB by the following methods:

• Email: oira_submission@omb.eop.gov. You must include the DS form number, information collection title, and OMB control number in the subject line of your message.

• Fax: 202-395-5806. Attention: Desk Officer for Department of State.

You may submit comments to the Visa Office by the following methods:

• Web: Persons with access to the Internet may comment on this notice by going to www.Regulations.gov. You can search for the document by entering “Docket Number: DOS-2016-0020” in the Search field. Then click the “Comment Now” button and complete the comment form.

• Email: PRA_BurdenComments@state.gov. You must include Emergency Submission Comment on “information collection title” in the subject line of your message.

FOR FURTHER INFORMATION CONTACT: Direct requests for additional information regarding the collection listed in this notice, including requests for copies of the proposed collection instrument and supporting documents, to Taylor Mauck, who may be reached at 202-485-7635 or at PRA_BurdenComments@state.gov.

SUPPLEMENTARY INFORMATION:

• Title of Information Collection: Adoptive Family Relief Act Refund Application.

• OMB Control Number: None.

• Type of Request: Emergency Review.

• Originating Office: CA/VO/L/R.

• Form Number: DS-7781.

• Respondents: Immigrant Visa Petitioners.

• Estimated Number of Respondents: 600.

• Estimated Number of Responses: 600.

• Average Time per Response: 5 Minutes.

• Total Estimated Burden Time: 50 Hours.

• Frequency: Once.

• Obligation to respond: Required to Obtain or Retain a Benefit.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Adoptive Family Relief Act (Pub. L. 114-70) amended section 221(c) of the Immigration and Nationality Act (INA), 8 U.S.C. 1201(c), to allow for the waiver or refund certain immigrant visa fees for a lawfully adopted child, or a child coming to the United States to be adopted by a United States citizen, subject to criteria prescribed by the Secretary of State. Over 350 American families have successfully adopted children from the Democratic Republic of the Congo. However, since September 25, 2013, they have not been able to bring their adoptive children home to the United States because the Democratic Republic of the Congo suspended the issuance of “exit permits” for these children. As the permit suspension drags on, however, American families are repeatedly paying visa renewal and related fees, while also continuing to be separated from their adopted children.

The waiver or refund provides support and relief to American families seeking to bring their adoptive children from the Democratic Republic of Congo to the United States, and would also provide relief to similarly situated adoptive families should barriers arise in other countries in the future. See 161 Cong. Rec. S2796-01.

This form will collect information to determine the extra fees these families have paid and refund them in accordance with the Adoptive Family Relief Act. This is an emergency collection in order to immediately alleviate the financial burden on families who need multiple visas and those families are still waiting for refunds.

Methodology

The form DS-7781 will be hosted on the Department of State Web site to be printed, filled out, and eventually sent to the Consular Section where the adoption case was originally processed.

Dated: March 21, 2016.
Edward Ramotowski,
Deputy Assistant Secretary, Bureau of Consular Affairs, Department of State.

[FR Doc. 2016-08391 Filed 4-11-16; 8:45 am]

BILLING CODE 4710-06-P